NATIONAL SCIENCE FOUNDATION

Proposal Review Panel for Materials Research; Sunshine Act Notice of Meeting

In accordance with the Federal Advisory Committee Act (Pub. L. 92-463 as amended), the National Science Foundation announces the following meeting:

NAME: Proposal Review Panel for Materials Research #1203.

DATES AND TIMES: November 15, 2005; 7:45 a.m.-9 p.m. (open 7:45-11:45, 12:45-4:30, 6-7; closed 4:30-6); November 16, 2005; 8 a.m.-4 p.m. (open 9-10:15).

PLACE: University of Alabama, Tuscaloosa, AL.

TYPE OF MEETING: Part Open.

CONTACT PERSON: Dr. Ulrich Strom, Program Director, Materials Research Science and Engineering Centers, Division of Materials Research, Room 1065, National Science Foundation, 4201 Wilson Boulevard, Arlington, VA 22230, Telephone (703) 292-4938.

PURPOSE OF MEETING: To provide advice and recommendations concerning progress of Materials Research Science and Engineering Center.

AGENDA:

November 15, 2005—Closed to brief site visit panel.

November 16, 2005—Open for Directors overview of Materials Research Science and Engineering Center and presentations. Closed to review and evaluate progress of Materials Research Science and Engineering Center.

REASON FOR CLOSING: The work being reviewed may include information of a proprietary or confidential nature, including technical information; financial data, such as salaries and personal information concerning individuals associated with the proposals. These matters are exempt under 5 U.S.C. 552 b(c), (4) and (6) of the Government in the Sunshine Act.

Dated: October 4, 2005.
Susanne Bolton,
Committee Management Officer.

[FR Doc. 05-20275 Filed 10-4-05; 2:40 pm]

BILLING CODE 7555-01-M